DEPARTMENT OF AGRICULTURE

Submission for OMB Review; Comment Request

February 3, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: 7 CFR 1962-1, Agreement for the Use of Proceeds/Release of Chattel Security.

OMB Control Number: 0560-0171.

Summary of Collection: Section 335(f) of the Consolidated Farm and Rural Development Act (CONACT) requires release of normal income security to pay essential household and farm operating expenses of the borrower, until the Farm Service Agency (FSA) accelerates the loans. The FSA agreed in the consent decree to approve a borrower's planned use of proceeds from the disposition of their chattel security, record any changes to planned use, and record the actual disposition of chattel security for the year of operation.

Need and Use of the Information: FSA will collect information on the actual and planned disposition of chattel security through the use of form FSA 1962-1. This form allows for normal income releases as required for payment of essential family living and farm operating expenses, provides the borrower with information on how to report sales of chattels, income received and how to notify agency of any changes to the operation or the use of chattel proceeds. The information collected will come from FSA borrowers who may be individual farmers or farming entities.

Description of Respondent: Farms; business or other for-profit; individuals or households.

Number of Respondents: 69,300.

Frequency of Responses: Reporting: annually.

Total Burden Hours: 20,531.

Ruth Brown,
Departmental Information Collection Clearance Officer.

[FR Doc. 05-2465 Filed 2-8-05; 8:45 am]

BILLING CODE 3410—05-M